DEPARTMENT OF HEALTH AND HUMAN SERVICES

Meeting Notice for the President's Advisory Council on Faith-Based and Neighborhood Partnerships

In accordance with section 10(a)(2) of the Federal Advisory Committee Act (Pub. L. 92-463), the President's Advisory Council on Faith-based and Neighborhood Partnerships announces the following three conference calls:

Name: President's Advisory Council on Faith-based and Neighborhood Partnerships Council Conference Calls

Time and Date: Thursday, October 18th 4 p.m.-5:30 p.m. (EDT); Thursday, November 15th 4 p.m.-5:30 p.m. (EST); December 13th 4 p.m.-5:30 p.m. (EST)

Place: All meetings announced herein will be held by conference call. The call-in line is: 1-866-823-5144; Passcode: 1375705. Space is limited so please RSVP to partnerships@hhs.gov to participate.

Status: Open to the public, limited only by lines available.

Purpose: The Council brings together leaders and experts in fields related to the work of faith-based and neighborhood organizations in order to: Identify best practices and successful modes of delivering social services; evaluate the need for improvements in the implementation and coordination of public policies relating to faith-based and other neighborhood organizations; and make recommendations for changes in policies, programs, and practices.

Contact Person for Additional Information: Please contact Ben O'Dell for any additional information about the President's Advisory Council meeting at partnerships@hhs.gov.

Agenda: Please visit http://www.whitehouse.gov/partnerships for further updates on the Agenda for the meeting.

Public Comment: There will be an opportunity for public comment at the conclusion of the meeting. Comments and questions can be asked over the conference call line, or sent in advance to partnerships@hhs.gov.

Dated: September 26, 2012.
Ben O'Dell,
Designated Federal Officer and Associate Director, HHS Center for Faith-Based and Neighborhood Partnerships.

[FR Doc. 2012-24218 Filed 10-1-12; 8:45 am]

BILLING CODE 4154-07-P